DEPARTMENT OF HOMELAND SECURITY

U.S. Citizenship and Immigration Services

[CIS No. 2818-25; DHS Docket No. USCIS-2014-0007]

RIN 1615-ZB75

Termination of the Designation of Honduras for Temporary Protected Status

AGENCY: U.S. Citizenship and Immigration Services (USCIS), Department of Homeland Security (DHS).

ACTION: Notice.

SUMMARY: Through this notice, the Department of Homeland Security (DHS) announces that the Secretary of Homeland Security (Secretary) is terminating the designation of Honduras for Temporary Protected Status (TPS). The designation of Honduras is set to expire on July 5, 2025. After reviewing country conditions and consulting with appropriate U.S. Government agencies, the Secretary has determined that conditions in Honduras no longer support its designation for TPS. The Secretary, therefore, is terminating the TPS designation of Honduras as required by statute. This termination is effective September 8, 2025. After September 8, 2025, nationals of Honduras (and aliens having no nationality who last habitually resided in Honduras) who have been granted TPS under Honduras' designation will no longer have TPS.

DATES: The designation of Honduras for TPS is terminated effective at 11:59 p.m., local time, on September 8, 2025.

FOR FURTHER INFORMATION CONTACT: Humanitarian Affairs Division, Office of Policy and Strategy, U.S. Citizenship and Immigration Services, Department of Homeland Security, (240) 721-3000.

SUPPLEMENTARY INFORMATION:

Table of Abbreviations

CFR—Code of Federal Regulations

DHS—U.S. Department of Homeland Security

EAD—Employment Authorization Document

FR—Federal Register

FRN—Federal Register Notice

Government—U.S. Government

INA—Immigration and Nationality Act

Secretary—Secretary of Homeland Security

TPS—Temporary Protected Status

USCIS—U.S. Citizenship and Immigration Services

U.S.C.—United States Code

What is Temporary Protected Status (TPS)?

The Immigration and Nationality Act (INA) authorizes the Secretary of Homeland Security, after consultation with appropriate agencies of the U.S. Government, to designate a foreign state (or part thereof) for TPS if the Secretary determines that certain country conditions exist. See INA sec. 244(b)(1), 8 U.S.C. 1254a(b)(1). The Secretary, in her discretion, may then grant TPS to eligible nationals of that foreign state (or individuals having no nationality who last habitually resided in the designated foreign state). See INA sec. 244(a)(1)(A), 8 U.S.C. 1254a(a)(1)(A).

At least 60 days before the expiration of a foreign state's TPS designation or extension, the Secretary, after consultation with appropriate U.S. Government agencies, must review the conditions in the foreign state designated for TPS to determine whether they continue to meet the conditions required for the TPS designation. See INA sec. 244(b)(3)(A), 8 U.S.C. 1254a(b)(3)(A). If the Secretary determines that the conditions in the foreign state continue to meet the specific statutory criteria for TPS designation, TPS will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B). There is no judicial review of “any determination of the [Secretary] with respect to the designation, or termination or extension of a designation, of a foreign state” for TPS. INA sec. 244(b)(5)(A), 8 U.S.C. 1254a(b)(5)(A).

TPS is a temporary immigration benefit granted to eligible nationals of a country designated for TPS under the INA, or to eligible aliens without nationality who last habitually resided in the designated country. During the TPS designation period, TPS beneficiaries are eligible to remain in the United States, may not be removed, and are authorized to work and obtain an Employment Authorization Document (EAD) so long as they continue to meet the requirements of TPS. TPS beneficiaries may also apply for and be granted travel authorization as a matter of discretion. The granting of TPS does not result in or lead to lawful permanent resident status or any other immigration status. To qualify for TPS, beneficiaries must meet the eligibility standards at INA section 244(c)(2), 8 U.S.C. 1254a(c)(2). When the Secretary terminates a country's TPS designation, beneficiaries return to the same immigration status or category that they maintained before TPS, if any (unless that status or category has since expired or been terminated), or any other lawfully obtained immigration status or category they received while registered for TPS, as long as it is still valid on the date TPS terminates.

Designation of Honduras for TPS

Honduras was initially designated on January 5, 1999, on the basis of an environmental disaster that resulted in substantial, but temporary, disruption of living conditions, at the request of the Honduran government, and because Honduras was unable, temporarily, to handle adequately the return of its nationals. See Designation of Honduras Under Temporary Protected Status, 64 FR 524 (Jan. 5, 1999). The designation had been continuously extended since its initial designation until November 6, 2017, when former Acting DHS Secretary Elaine C. Duke announced that she had not made a decision on Honduras's TPS designation by the statutory deadline, resulting in an automatic 6-month extension of the designation, through July 5, 2018.¹

¹ See DHS Press Release, Acting Secretary Elaine Duke Announcement on Temporary Protected Status for Nicaragua and Honduras, available at: https://www.dhs.gov/archive/news/2017/11/06/acting-secretary-elaine-duke-announcement-temporary-protected-status-nicaragua-and; see also Extension of the Designation of Honduras for Temporary Protected Status, 82 FR 59630 (Dec. 15, 2017).

In 2018, DHS announced the termination of TPS for Honduras ² to be effective January 5, 2020, finding that the disruption of living conditions from Hurricane Mitch had decreased and were no longer substantial.³ However, in response to litigation, DHS announced on May 10, 2019, that it would not implement or enforce the decision to terminate the TPS designation for Honduras. DHS instead continued the validity of TPS-related documentation for Honduran beneficiaries through January 5, 2020.⁴ On November 4, 2019, to comply with ongoing litigation, DHS further continued and extended TPS-related documentation for Hondurans through January 4, 2021.⁵

² See DHS Press Release, Secretary of Homeland Security Kirstjen M. Nielsen Announcement on Temporary Protected Status for Honduras (May 4, 2018), available at: https://www.dhs.gov/archive/news/2018/05/04/secretary-homeland-security-kirstjen-m-nielsen-announcement-temporary-protected.

³ Termination of the Designation of Honduras for Temporary Protected Status, 83 FR 26074 (June 5, 2018).

⁴ Pursuant to an order to stay proceedings in Bhattarai v. Nielsen, No. 19-cv-00731, pending resolution of related claims being litigated before the Ninth Circuit Court of Appeals in Ramos v. Nielsen, No. 18-16981, DHS published a notice that it will not implement or enforce the decision to terminate TPS for Honduras. TPS Beneficiaries from Honduras retained TPS, provided that an alien's TPS status is not withdrawn because of ineligibility. See Bhattarai v. Nielsen, No. 19-cv-00731 (N.D. Cal. Mar. 12, 2019) and Ramos v. Nielsen, 326 F. Supp. 3d 1075 (N.D. Cal. 2018). See Continuation of Documentation for Beneficiaries of Temporary Protected Status Designations for Nepal and Honduras, 84 FR 20647 (May 10, 2019).

⁵ To comply with the preliminary injunctions issued in Ramos v. Nielsen and Saget v. Trump and the order to stay proceedings in Bhattarai v. Nielsen. See Saget v. Trump, 375 F. Supp. 3d 280 (E.D.N.Y. 2019); Continuation of Documentation for Beneficiaries of Temporary Protected Status Designations for El Salvador, Haiti, Honduras, Nepal, Nicaragua, and Sudan, 84 FR 59403 (Nov. 4, 2019).

While litigation continued, DHS published three additional Federal Register notices (FRNs in 2020,⁶ 2021,⁷ and 2022 ⁸) extending the validity of TPS and TPS-related documentation for Honduran beneficiaries.

⁶ On December 9, 2020, DHS automatically extended the validity of TPS-related documentation for nine months through October 4, 2021, for Honduran beneficiaries. See Continuation of Documentation for Beneficiaries of Temporary Protected Status Designations for El Salvador, Haiti, Nicaragua, Sudan, Honduras, and Nepal, 85 FR 79208.

⁷ On September 10, 2021, DHS published notice for a fifteen-month extension of TPS for aliens from Honduras until December 31, 2022, while the preliminary injunction in Ramos and the Bhattarai orders remain in effect. Extensions were previously set to expire on October 4, 2021. See Continuation of Documentation for Beneficiaries of Temporary Protected Status Designations for El Salvador, Haiti, Nicaragua, Sudan, Honduras, and Nepal, 86 FR 50725.

⁸ On November 16, 2022, DHS published a FRN extending the validity period of TPS for covered aliens from several countries, including Honduras, June 30, 2024. See Continuation of Documentation for Beneficiaries of Temporary Protected Status Designations for El Salvador, Haiti, Nicaragua, Sudan, Honduras, and Nepal, 87 FR 68717.

Finally, on June 21, 2023, DHS published a FRN reconsidering and rescinding the prior administration's termination of Honduras TPS. The rescission was effective June 9, 2023, and the new 18-month extension of TPS for Honduras began on January 6, 2024, and will remain in effect through July 5, 2025.⁹

⁹ Reconsideration and Rescission of Termination of the Designation of Honduras for Temporary Protected Status; Extension of the Temporary Protected Status Designation for Honduras, 88 FR 40304 (June 21, 2023); see also Extension of Re-Registration Periods for Extensions of the Temporary Protected Status Designations of El Salvador, Haiti, Honduras, Nepal, Nicaragua, and Sudan, 88 FR 86665 (Dec. 14, 2023).

Secretary's Authority To Terminate the Designation of Honduras for TPS

At least 60 days before the expiration of a foreign state's TPS designation or extension, the Secretary, after consultation with appropriate U.S. Government agencies, must review the conditions in the foreign state designated for TPS to determine whether the country continues to meet the conditions required for the TPS designation. See INA sec. 244(b)(3)(A), 8 U.S.C. 1254a(b)(3)(A). If the Secretary determines that the foreign state no longer meets the conditions for the TPS designation, the Secretary must terminate the designation. See INA sec. 244(b)(3)(B), 8 U.S.C. 1254a(b)(3)(B). The termination may not take effect earlier than 60 days after the date the Federal Register notice (FRN) of termination is published, or if later, the expiration of the most recent previous extension of the country designation. See id. The Secretary may determine the appropriate effective date of the termination and expiration of any TPS-related documentation, such as EADs. See id.; see also INA sec. 244(d)(3), 8 U.S.C. 1254a(d)(3) (providing the Secretary the discretionary “option” to allow for a certain “orderly transition” period if she determines it to be appropriate).

Reasons for the Secretary's Termination of the TPS Designation for Honduras

Consistent with INA section 244(b)(3)(A), 8 U.S.C. 1254a(b)(3)(A), after consulting with appropriate U.S. Government agencies, the Secretary reviewed country conditions in Honduras and considered whether the conditions for the designation of Honduras continue, including whether there is “substantial, but temporary, disruption in living conditions in the area affected” by the environmental disaster and whether Honduras continues to be “unable, temporarily, to handle adequately the return” of its nationals.¹⁰

¹⁰ See E.O. 14159, Protecting the American People Against Invasion, sec. 16(b), 90 FR 8443, 8446 (Jan. 20, 2025) (directing that the Secretary should “ensur[e] that designations of Temporary Protected Status are consistent with the provisions of section 244 of the INA (8 U.S.C. 1254a), and that such designations are appropriately limited in scope and made for only so long as may be necessary to fulfill the textual requirements of that statute”).

Based on her review and consultation with the Department of State, the Secretary has determined the conditions supporting Honduras' January 5, 1999 designation for TPS on the basis of environmental disaster due to Hurricane Mitch are no longer met. While Hurricane Mitch was a sudden catastrophe that caused severe flooding and associated damage,¹¹ leading to Honduras' TPS designation, the conditions resulting from Hurricane Mitch no longer cause a “substantial, but temporary, disruption in living conditions in the area affected,” and Honduras is no longer “unable, temporarily, to handle adequately the return of its nationals.” ¹² Honduras has made significant progress recovering from the hurricane's destruction and is now a popular tourism ¹³ and real estate investment destination.¹⁴

¹¹ National Environmental Satellite, Data, and Information Service, 25 Years Later: Looking Back at the October Monster Named Mitch (Oct. 27, 2023), available at: https://www.nesdis.noaa.gov/news/25-years-later-looking-back-the-october-monster-named-mitch (last visited Apr. 14, 2025).

¹² INA 244(b)(3)(A), 8 U.S.C. 1254a(b)(3)(A).

¹³ ReportLinker, Honduras Tourism Industry Outlook 2024-2028, available at: https://www.reportlinker.com/clp/country/6226/726310 (last visited Apr. 14, 2025).

¹⁴ Brevitas, Why Honduras is Gaining Popularity for Real Estate Investment and Airbnb Rentals, Aug. 30, 2024, available at: https://brevitas.com/articles/2024/8/why-honduras-is-gaining-popularity-for-real-estate-investment-and-airbnb-rentals (last visited Apr. 14, 2025).

Honduras has witnessed significant changes in the 26 years since Hurricane Mitch's destruction. Reports indicate that 95.7% of Hondurans have access to a basic water source, 83.8% can access basic sanitation, and 93.2% have access to electricity.¹⁵ The World Bank has been helping Honduras address its most pressing needs and development challenges, including supporting the Honduran government's emergency response and post disaster reconstruction efforts.¹⁶ With international assistance, Honduras has strengthened its disaster management capacity at the municipal and national levels and improved its capacity to promptly and effectively respond to emergencies.¹⁷ Following disaster management improvements, 18 municipalities adopted risk management and emergency plans, and 38 cities improved their livability, sustainability, and capacity, benefiting 1.3 million people.¹⁸

¹⁵ BTI Transformation Index, Honduras, 2024, available at: https://btiproject.org/fileadmin/api/content/en/downloads/reports/country_report_2024_HND.pdf (last visited Apr. 14, 2025).

¹⁶ BTI Transformation Index, Honduras, 2024, available at: https://btiproject.org/fileadmin/api/content/en/downloads/reports/country_report_2024_HND.pdf (last visited Apr. 14, 2025).

¹⁷ World Bank Group, Honduras: Overview, Oct. 7, 2024, available at: https://www.worldbank.org/en/country/honduras/overview (last visited Mar. 26, 2025).

¹⁸ World Bank Group, Honduras: Overview, Oct. 7, 2024, available at: https://www.worldbank.org/en/country/honduras/overview (last visited Apr. 14, 2025).

Further, new infrastructure projects are set to transform Honduras and create jobs. Foreign direct investment in Honduras has jumped to 1.8 billion USD in 2023, a notable rise from the previous year.¹⁹ Honduras is investing in urban infrastructure, focusing on improving informal settlements and expanding land supply.²⁰

¹⁹ The Latin Investor, 14 strong forecasts for real estate in Honduras in 2025, Feb. 6, 2025, available at: https://thelatinvestor.com/blogs/news/honduras-real-estate-forecasts (last visited Apr. 14, 2025).

²⁰ The Latin Investor, 14 strong forecasts for real estate in Honduras in 2025, Feb. 6, 2025, available at: https://thelatinvestor.com/blogs/news/honduras-real-estate-forecasts (last visited Apr. 14, 2025).

As evidence of Honduras' readiness to welcome back its nationals, in January 2025, the Honduran government enacted a plan called “Brother, Come Home,” an initiative to support Hondurans deported from the United States that reportedly includes providing monetary and food support, along with access to employment programs.” ²¹

²¹ The Tico Times, Honduras Prepares for Mass Deportations Under Trump, Jan. 26, 2025, available at: https://ticotimes.net/2025/01/26/honduras-prepares-for-mass-deportations-under-trump (last visited Apr. 14, 2025).

Additionally, Honduras has been regularly accepting the return of its nationals with final removal orders over the last five years.²² The Secretary has determined that Honduras' recent ability to accept the return of it nationals has been and continues to be at least “adequate.” ²³

²² See e.g. “Project Homecoming Charter Flight Brings Self-Deporters to Honduras, Colombia” referencing the Honduran government's “Hermano, Hermana, Vuelve a Casa” program, which includes a financial repatriation bonus, food vouchers, and assistance in finding employment, DHS press release, May 19, 2025, available at https://www.dhs.gov/news/2025/05/19/project-homecoming-charter-flight-brings-self-deporters-honduras-colombia (last accessed June 3, 2025).

²³ The INA does not define “adequately.” Certain “[d]ictionaries define `adequate' as “sufficient for a specific need or requirement,” Adequate, Merriam-Webster's Collegiate Dictionary, or as either: (1) “[f]ully satisfying what is required; quite sufficient, suitable, or acceptable in quality or quantity”; or (2) “[s]atisfactory, but worthy of no stronger praise or recommendation; barely reaching an acceptable standard; just good enough,” Adequate, Oxford English Dictionary (3d ed. 2011).” Booker v. Sec'y, Fla. Dep't of Corr., 22 F.4th 954, 961 (11th Cir. 2022) (Lagoa, J., specially concurring) (URL citation omitted).

DHS estimates that there are approximately 72,000 nationals of Honduras (and aliens having no nationality who last habitually resided in Honduras) who hold TPS under Honduras' designation.²⁴

²⁴ As of April 7, 2025, approximately 21,000 of these nationals of Honduras (and aliens having no nationality who last habitually resided in Honduras) have been granted lawful permanent resident status. Data queried by Department of Homeland Security, U.S. Citizenship and Immigration Services, Office of Performance and Quality April 2025.

Effective Date of Termination of the Designation

The TPS statute provides that the termination of a country's TPS designation may not be effective earlier than 60 days after the FRN is published or, if later, the expiration of the most recent previous extension. See INA sec. 244(b)(3)(B), 8 U.S.C. 1254a(b)(3)(B).

Although the statute authorizes the Secretary, at her discretionary option, to allow for an extended “orderly transition” period with respect to the expiration of any TPS-related documentation, such as EADs, the Secretary has determined in her discretion that a 60-day transition period is sufficient. A sixty-day orderly period of transition is consistent with the precedent of previous TPS country terminations and makes clear that the United States is committed to clarity and consistency. See INA sec. 244(d)(3), 8 U.S.C. 1254a(d)(3). Accordingly, the termination of the Honduras TPS designation will be effective 60 days from this notice's publication date.²⁵

²⁵ See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

However, DHS recognizes that Honduran TPS beneficiaries continue to be employment authorized during the 60-day transition period.²⁶ Accordingly, through this FRN, DHS automatically extends the validity of certain EADs previously issued under the TPS designation of Honduras through September 8, 2025. Therefore, as proof of continued employment authorization through September 8, 2025, TPS beneficiaries can show their EADs that have the notation A-12 or C-19 under Category and a “Card Expires” date of January 5, 2018, July 5, 2018, January 5, 2020, January 4, 2021, October 4, 2021, December 31, 2022, June 30, 2024, and July 5, 2025.

²⁶ See INA 244(a)(1)(B), 8 U.S.C. 1254a(a)(1)(B); see also 8 CFR 244.13(b).

The Secretary has considered putative reliance interests in the Honduras TPS designation, especially when considering whether to allow for an additional transition period similar to that allowed under certain previous TPS terminations. Temporary Protected Status, as the name itself makes clear, is an inherently temporary status. TPS designations are time-limited and must be periodically reviewed. See INA sec. 244(b)(3), 8 U.S.C. 1254a(b)(3). TPS notices clearly notify aliens of the designations' expiration dates, and whether to allow for an orderly transition period is left to the Secretary's unfettered discretion. See INA sec. 244(b)(3), (d)(3); 8 U.S.C. 1254a(b)(3), (d)(3). The statute inherently contemplates advance notice of a termination by requiring timely publication of the Secretary's determination and delaying the effective date of the termination by at least 60 days after publication of a Federal Register notice of the termination or, if later, the existing expiration date. See INA sec. 244(b)(3), (d)(3); 8 U.S.C. 1254a(b)(3), (d)(3).

Notice of the Termination of the TPS Designation of Honduras

By the authority vested in me as Secretary under INA section 244(b)(3), 8 U.S.C. 1254a(b)(3), I have reviewed, in consultation with the appropriate U.S. Government agencies, (a) conditions in Honduras, (b) whether there continues to be a substantial disruption of living conditions in the areas affected in Honduras; and (c) whether Honduras can handle adequately the return of its nationals. Based on my review, I have determined that Honduras no longer continues to meet the conditions for Temporary Protected Status (TPS) under INA section 244(b)(1)(B), 8 U.S.C. 1254a(b)(1)(B).

Accordingly, I order as follows:

(1) Pursuant to INA section 244(b)(3)(B), 8 U.S.C. 1254a(b)(1)(B), and considering INA section 244(d)(3), 8 U.S.C. 1254a(d)(3), the designation of Honduras for TPS is terminated effective at 11:59 p.m., local time, on September 8, 2025.

(2) Information concerning the termination of TPS for nationals of Honduras (and aliens having no nationality who last habitually resided in Honduras) will be available at local USCIS office upon publication of this notice and through the USCIS Contact Center at 1-800-375-5283. This information will be published on the USCIS website at www.uscis.gov.

Kristi Noem,
Secretary of Homeland Security.

[FR Doc. 2025-12621 Filed 7-7-25; 8:45 am]

BILLING CODE 9111-97-P